INTERNATIONAL TRADE COMMISSION

[Investigation Nos. 701-TA-450 and 731-TA-1122 (Third Review)]

Laminated Woven Sacks From China

Determinations

On the basis of the record ¹ developed in the subject five-year reviews, the United States International Trade Commission (“Commission”) determines, pursuant to the Tariff Act of 1930 (“the Act”), that revocation of the antidumping and countervailing duty orders on laminated woven sacks from China would be likely to lead to continuation or recurrence of material injury to an industry in the United States within a reasonably foreseeable time.

¹ The record is defined in § 207.2(f) of the Commission's Rules of Practice and Procedure (19 CFR 207.2(f)).

Background

The Commission instituted these reviews on July 1, 2024 (89 FR 54522) and determined on October 4, 2024, that it would conduct expedited reviews (89 FR 88060, November 6, 2024).

The Commission made these determinations pursuant to section 751(c) of the Act (19 U.S.C. 1675(c)). It completed and filed its determinations in these reviews on February 13, 2025. The views of the Commission are contained in USITC Publication 5589 (February 2025), entitled Laminated Woven Sacks from China: Investigation Nos. 701-TA-450 and 731-TA-1422 (Third Review).

By order of the Commission.
Issued: February 13, 2025.
Lisa Barton,
Secretary to the Commission.

[FR Doc. 2025-02827 Filed 2-19-25; 8:45 am]

BILLING CODE 7020-02-P